DEPARTMENT OF ENERGY

Federal Energy Regulatory Commission

[Project No. 659-013]

Crisp County Power Commission; Notice of Availability of Environmental Assessment

January 18, 2006.

In accordance with the National Environmental Policy Act of 1969, as amended, and the Federal Energy Regulatory Commission's (Commission) regulations (18 CFR Part 380), Commission staff have prepared an environmental assessment (EA) that analyzes the environmental impacts of allowing Crisp Country Power Commission, licensee for the Lake Blackshear Hydroelectric Project (FERC No. 659), to amend the existing project boundary. The licensee proposes to amend the Lake Blackshear Project's boundary to include a 3.2 acre increase in the lake surface area in association with a proposed subdivision on Lincolmpinch Cove. The proposed subdivision would include 16 lots and would extend the inlet to provide lake frontage to the proposed lots. The extension would be created by excavating wetland areas bordering the cove to a depth of approximately 4 feet below the normal water surface elevation of Lake Blackshear. The licensee proposes to maintain the project boundary at the 237-foot msl contour, and extend the boundary along this contour to encompass the additional area that would be excavated and inundated in association with the construction of the subdivision. In addition to excavating the cove area, the developer would dredge a 4-foot-deep by 40-foot-wide channel from Lake Blackshear to the cove to allow water from the lake to fill the cove.

A copy of the EA is attached to a Commission order titled “Order Approving Change in Project Boundary,” which was issued on January 13, 2006, and is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E6-841 Filed 1-24-06; 8:45 am]

BILLING CODE 6717-01-P